SECURITIES AND EXCHANGE COMMISSION

[Release No. 34-78261; SR-NYSEArca-2016-08]

Self-Regulatory Organizations; NYSE Arca, Inc.; Notice of Withdrawal of a Proposed Rule Change, as Modified by Amendment No. 1 Thereto, To Adopt NYSE Arca Equities Rule 8.900 To Permit Listing and Trading of Managed Portfolio Shares and To Permit Listing and Trading of Shares of Fifteen Issues of the Precidian ETFs Trust

July 8, 2016.

On January 27, 2016, NYSE Arca, Inc. (“Exchange”) filed with the Securities and Exchange Commission (“Commission”), pursuant to Section 19(b)(1) of the Securities Exchange Act of 1934 (“Act”) ¹ and Rule 19b-4 thereunder,² a proposed rule change to: (1) Adopt NYSE Arca Equities Rule 8.900; and (2) approve the listing and trading of shares of fifteen series of the Precidian ETFs Trust. The proposed rule change was published for comment in the Federal Register on February 18, 2016.³ On March 9, 2016, the Exchange filed Amendment No. 1 to the proposed rule change.⁴

¹ 15 U.S.C.78s(b)(1).

² 17 CFR 240.19b-4.

³ See Securities Exchange Act Release No. 76944 (Feb. 11, 2016), 81 FR 8269 (“Notice”).

⁴ In Amendment No. 1 to the proposed rule change, the Exchange corrected the citations to the Trust's Form N-1A and Exemptive Application, which were misstated in the proposal. Amendment No. 1 to the proposed rule change is available on the Commission's Web site at: http://www.sec.gov/comments/sr-nysearca-2016-08/nysearca201608-1.pdf.

On March 18, 2016, pursuant to Section 19(b)(2) of the Act,⁵ the Commission designated a longer period within which to approve the proposed rule change, disapprove the proposed rule change, or institute proceedings to determine whether to disapprove the proposed rule change.⁶ On May 17, 2016, the Commission instituted proceedings under Section 19(b)(2)(B) of the Act ⁷ to determine whether to approve or disapprove the proposed rule change.⁸ The Commission received eleven comments on the proposal.⁹

⁵ 15 U.S.C. 78s(b)(2).

⁶ See Securities Exchange Act Release No. 77405, 81 FR 15774 (Mar. 24, 2016).

⁷ 15 U.S.C. 78s(b)(2)(B).

⁸ See Securities Exchange Act Release No. 77845, 81 FR 32376 (May 23, 2016).

⁹ See Letters from Douglas M. Yones, Head of Exchange Traded Products, New York Stock Exchange (Jul. 5, 2016); Eric Swanson, General Counsel & Secretary, Bats Global Markets, Inc. (Jul. 1, 2016); Todd J. Broms, CEO, Broms and Company LLC (Jun. 27, 2016); Daniel J. McCabe, CEO, Precidian Investments LLC (Jun. 15, 2016); Gary L. Gastineau, President, ETF Consultants.com, Inc. (Jun. 13, 2016); Daniel J. McCabe, CEO, Precidian Investments LLC (Jun. 13, 2016); James J. Angel, Ph.D., CFA, Associate Professor, McDonough School of Business, Georgetown University (Jun. 9, 2016); Joseph A. Sullivan, Chairman and Chief Executive Officer, Legg Mason Global Asset Management (Apr. 15, 2016); Andrew M. Gross, Jr. (Apr. 5, 2016); David Nadig (Mar. 31, 2016); and Gary L. Gastineau, President, ETF Consultants.com, Inc. (Mar. 10, 2016) (comment letters available at: https://www.sec.gov/comments/sr-nysearca-2016-08/nysearca201608.shtml).

On July 7, 2016, the Exchange withdrew the proposed rule change (SR-NYSEArca-2016-08).

For the Commission, by the Division of Trading and Markets, pursuant to delegated authority.¹⁰
¹⁰ 17 CFR 200.30-3(a)(57).
Jill M. Peterson,
Assistant Secretary.

[FR Doc. 2016-16603 Filed 7-13-16; 8:45 am]

BILLING CODE 8011-01-P